DEPARTMENT OF THE INTERIOR

National Park Service

General Management Plan/Environmental Assessment, Finding of No Significant Impact, for Chickasaw National Recreation Area, Oklahoma

AGENCY: National Park Service, Department of the Interior.

ACTION: Notice of Availability of a Finding of No Significant Impact for the General Management Plan/Environmental Assessment, Chickasaw National Recreation Area.

SUMMARY: Pursuant to 40 CFR 1501.4(e), the National Park Service has prepared, and hereby announces the availability of, a Finding of No Significant Impact for the General Management Plan/Environmental Assessment, Chickasaw National Recreation Area, Oklahoma.

The Findings of No Significant Impact includes a statement of the decision made, synopses of other alternatives considered, the basis for the decision, a description of the environmentally preferable alternative, a finding of no impairment of park resources and values, a listing of measures to minimize environmental harm, an overview of public involvement in the decision-making process, and a floodplains statement of findings.

SUPPLEMENTARY INFORMATION: The preferred alternative, Alternative B, is the selected alternative for implementation. The primary focus of this alternative will be on improving selected natural and cultural resources while enhancing visitor facilities and interpretive opportunities. The following actions, among others, will be taken under the preferred alternative: The National Park Service will actively encourage a partnership to identify approaches to managing the Arbuckle-Simpson aquifer; the Vendome Well will be managed to reduce the discharge of groundwater when it is not being used by the public; additional preservation and protection will be provided to the cultural resources within the proposed Platt National Park Historic District; the bison pasture will be restored to prairie and a study will be completed on possibly introducing bison to the Upper Guy Sandy; improvements will be made to the Cold Springs, Central, Point, Buckhorn, and Guy Sandy campgrounds; the trails system in the Rock Creek Corridor will be upgraded; additional day use picnic shelters and shower facilities will be added to the Platt District and new restrooms and fishing dock facilities will be built at Veterans Lake, new restrooms and picnic tables will be added at Lake of the Arbuckles, and a horse camp, staging area, group campsite, and commercial operations (e.g., boat rentals and bus tours) may be provided, additional formal interpretive programs will be provided at the Travertine Nature Center; and maintenance and administrative operations will be relocated outside of the national recreation area or within the area but outside the historic district.

Two other alternatives were considered for Chickasaw National Recreation Area. Under alternative A (no action) the National Park Service would have continued to manage Chickasaw National Recreation Area as it is since the approval of the 1979 General Management Plan Supplement and the 1994 amendment. There would have been no major change in the management of Chickasaw National Recreation Area under this alternative. Management under alternative C would have focused on the protection and restoration of natural and cultural resources. There would have been fewer facilities and a narrower range of visitor opportunities, although there would have been a better opportunity to experience resources in relatively natural or recovering conditions. Some roads or trails would have been removed and revegetated. Some new facilities would have been built, but generally they would have been placed outside Chickasaw National Recreation Area or in previously developed areas.

ADDRESSES: The Finding of No Significant Impact will be available for public review for 30 days online at http://parkplanning.nps.gov/chic and in the office of the Superintendent, 1008 West Second Street, Sulphur, OK 73086, (580) 622-3161.

FOR FURTHER INFORMATION CONTACT: Bruce Noble, Superintendent, Chickasaw National Recreation Area, 1008 West Second Street, Sulphur, OK 73086, (580) 622-3161, x7200 bruce_noble@nps.gov.

Dated: December 11, 2007.
Bob Moon,
Acting Regional Director, Intermountain Region, National Park Service.

[FR Doc. 08-374 Filed 1-28-08; 8:45 am]

BILLING CODE 4310-2H-M